SURFACE TRANSPORTATION BOARD

[Docket No. EP 290 (Sub-No. 5) (2019-2)]

Quarterly Rail Cost Adjustment Factor

AGENCY: Surface Transportation Board.

ACTION: Determination of the rail cost adjustment factor (RCAF) figures for the second quarter of 2019.

SUMMARY: The Board finds that the second quarter 2019 RCAF (Unadjusted) is 1.065, RCAF (Adjusted) is 0.451, and RCAF-5 is 0.422. Comments on the inclusion of the recalculated figures in the RCAF may be submitted by April 18, 2019.

DATES: Comments may be submitted by April 18, 2019. This decision is effective on April 1, 2019.

FOR FURTHER INFORMATION CONTACT: Pedro Ramirez at (202) 245-0333. Assistance for the hearing impaired is available through the Federal Relay Service at (800) 877-8339.

SUPPLEMENTARY INFORMATION: The Board's decision is posted at http://www.stb.gov. Copies of the decision may be purchased by contacting the Board's Office of Public Assistance, Governmental Affairs, and Compliance at (202) 245-0238.

Decided: March 28, 2019.
By the Board, Board Members Begeman, Fuchs, and Oberman.
Tammy Lowery,
Clearance Clerk.

[FR Doc. 2019-06454 Filed 4-2-19; 8:45 am]

BILLING CODE 4915-01-P